DEPARTMENT OF HOMELAND SECURITY

Coast Guard

[USCG-2005-22531]

Towing Safety Advisory Committee

AGENCY: Coast Guard, DHS.

ACTION: Notice of meetings.

SUMMARY: The Towing Safety Advisory Committee (TSAC) and its working groups will meet as required to discuss various issues relating to shallow-draft inland and coastal waterway navigation and towing safety. All meetings will be open to the public.

DATES: TSAC will meet on Wednesday, October 12, 2005, from 8 a.m. to 3:30 p.m. Working groups will meet on the previous day, Tuesday, October 11, 2005, from 8:30 a.m. to 3:30 p.m. These meetings may close early if all business is finished. Written material for and requests to make oral presentations at the meetings should reach the Coast Guard on or before October 4, 2005. Requests to have a copy of your material distributed to each member of the Committee or working groups prior to the meetings should reach the Coast Guard on or before October 4, 2005.

ADDRESSES: TSAC will meet in Room 2415, U.S. Coast Guard Headquarters, 2100 Second Street SW., Washington, DC 20593-0001. The working groups will first meet in the same room and then, if necessary, move to separate spaces designated at that time. Send written material and requests to make oral presentations to Mr. Gerald P. Miante, Commandant (G-MSO-1), U.S. Coast Guard Headquarters, G-MSO-1, Room 1210, 2100 Second Street SW., Washington, DC 20593-0001. This notice and related documents are available on the Internet at http://dms.dot.gov under the docket number USCG-2005-22531.

FOR FURTHER INFORMATION CONTACT: Mr. Gerald P. Miante, Assistant Executive Director, telephone 202-267-0214, fax 202-267-4570, or e-mail at: gmiante@comdt.uscg.mil.

SUPPLEMENTARY INFORMATION: Notice of these meetings is given under the Federal Advisory Committee Act, 5 U.S.C. App. 2 (Pub. L. 92-463, 86 Stat. 770, as amended).

Agenda of Committee Meeting

The agenda includes the following items:

(1) Status Report of the Commercial/Recreational Boating Interface Working Group;

(2) Status Report of the Mariner Deaths during Nighttime Barge Fleeting Operations Working Group;

(3) Status Report of the International Convention on Standards of Training, Certification and Watchkeeping for Seafarers, 1978, as amended (STCW) Implementation Working Group;

(4) Status Report of the Towing Vessel Inspection Working Group;

(5) Status Report on the Licensing Implementation Working Group;

(6) Presentation of a Task Statement on Towing Vessel Horsepower Standards;

(7) Presentation on a Legislative Change Proposal regarding Title 46 U.S. Code section 8509(b);

(9) Presentation of a Task Statement on Towing Vessel Bridge Visibility; and

(10) Presentation of a Task Statement on Voyage Planning.

Procedural

All meetings are open to the public. Please note that the meetings may close early if all business is finished. Members of the public may make oral presentations during the meetings. If you would like to make an oral presentation at a meeting, please notify the Assistant Executive Director no later than October 4, 2005. Written material for distribution at a meeting should reach the Coast Guard no later than October 4, 2005. If you would like a copy of your material distributed to each member of the Committee or Working Groups in advance of a meeting, please submit 20 copies to the Assistant Executive Director no later than October 4, 2005. You may also submit this material electronically to the e-mail address in FOR FURTHER INFORMATION CONTACT, no later than October 4, 2005.

Information on Services for Individuals With Disabilities

For information on facilities or services for individuals with disabilities or to request special assistance at the meetings, contact the Assistant Executive Director as soon as possible.

Dated: September 21, 2005.
Howard L. Hime,
Acting Director of Standards, Marine Safety, Security and Environmental Protection.

[FR Doc. 05-19213 Filed 9-26-05; 8:45 am]

BILLING CODE 4910-15-P